DEPARTMENT OF THE INTERIOR

Fish and Wildlife Service

Preparation of an Environmental Impact Statement/ Environmental Impact Report for Federal and State Actions Associated With the Coachella Valley Multiple Species Habitat Conservation Plan/Natural Communities Conservation Plan

AGENCY: Fish and Wildlife Service, Interior (Lead Agency).

COOPERATING AGENCIES: Bureau of Land Management, Interior; National Park Service, Interior; Forest Service, Agriculture; California Resources Agency; California Department of Fish and Game; California Department of Parks and Recreation; and Coachella Valley Association of Governments.

ACTION: Notice of intent; notice of public meeting.

SUMMARY: The Fish and Wildlife Service and cooperating agencies are gathering information necessary for the preparation of an Environmental Impact Statement/Environmental Impact Report (Impact Statement/Report). This Impact Statement/Report will consider the actions of Federal, State, and local agencies, as well as private interests, associated with implementation of the Coachella Valley Multiple Species Habitat Conservation Plan/Natural Communities Conservation Plan(Multispecies Plan) and the issuance of incidental take permits pursuant to section 10(a)(1)(B) of the Federal Endangered Species Act of 1973, as amended, and section 2081 of the California Endangered Species Act. The Impact Statement/Report also will consider the Bureau of Land Management's proposed amendment of the California Desert Conservation Plan to conform with the Multispecies Plan. In addition, the Impact Statement/Report will consider any other actions by other Federal or State agencies that are necessary or appropriate to implement the Multispecies Plan.

We encourage interested persons to attend public meetings to identify and discuss the scope of issues and alternatives that should be addressed in the Multispecies Plan and in the Impact Statement/Report. We provide this notice pursuant to the Council on Environmental Quality regulations for implementing the procedural provisions of the National Environmental Policy Act (40 CFR 1501.7 and 1508.22).

DATES: We must receive your written comments by July 28, 2000. See SUPPLEMENTARY INFORMATION section for meeting dates and locations.

ADDRESSES: Send comments regarding the scope of the Impact Statement/Report as it relates to the proposed Multispecies Plan to the Field Supervisor, Fish and Wildlife Service, 2730 Loker Avenue West, Carlsbad, California 92008; facsimile 760/431-9624. Send comments regarding the scope of the Impact Statement/Report as it relates to the proposed amendment of the Desert Conservation Plan to the Field Manager, Bureau of Land Management, Palm Springs-South Coast Field Office, P.O. Box 1260, North Palm Springs, California 92258-1260; facsimile 760/251-4899.

FOR FURTHER INFORMATION CONTACT: Mr. Pete Sorensen, Supervisory Fish and Wildlife Biologist, Carlsbad Fish and Wildlife Office, Carlsbad, California; telephone 760/431-9440; or Ms. Elena Misquez, Planning and Environmental Coordinator, Bureau of Land Management, Palm Springs-South Coast Field Office, North Palm Springs, California; telephone 760/251-4810.

SUPPLEMENTARY INFORMATION: All comments that we receive will become part of the administrative record and may be released to the public. You may view these comments during normal business hours (8 a.m. to 5 p.m., Monday through Friday) at the above offices (see ADDRESSES). Please call for an appointment.

In addition, you may obtain specific information regarding the location of lands proposed for conservation from Mr. Steve Nagle, Coachella Valley Association of Governments, 73-710 Fred Waring Drive, Suite 200, Palm Desert, California 92260; telephone 760/346-1127; facsimile 760/340-5949.

Meetings

We will hold public meetings as follows:

July 10, 2000, 6:30 p.m. to 8:30 p.m., City Hall Council Chambers, 68-700 Avenida Lalo Guerrero, Cathedral City, California.

July 11, 2000, 6:30 p.m. to 8:30 p.m., City Hall Council Chambers, 68-700 Avenida Lalo Guerrero, Cathedral City, California.

July 12, 2000, 6:30 p.m. to 8:30 p.m., City Hall Council Chambers, 78-495 Calle Tampico, La Quinta, California.

The meetings on July 10 and 12 broadly focus on the scope and content of the Impact Statement/Report as it relates to the proposed Multispecies Plan and to the proposed amendment of the California Desert Conservation Plan. The meeting on July 11 specifically focuses on the trail component of these plans.

Background

Section 9 of the Federal Endangered Species Act and regulations prohibit the “take” of animal species listed as endangered or threatened. That is, no one may harass, harm, pursue, hunt, shoot, wound, kill, trap, capture or collect listed animal species, or attempt to engage in such conduct (16 USC 1538). “Harm” is defined by regulation to include significant habitat modification or degradation that actually kills or injures wildlife by significantly impairing essential behavioral patterns, including breeding, feeding, or sheltering (50 CFR 17.3). Under certain circumstances, the Fish and Wildlife Service may issue permits to authorize “incidental” take of listed animal species (defined by the Act as take that is incidental to, and not the purpose of, the carrying out of an otherwise lawful activity). Regulations governing permits for federally-listed threatened and endangered species, respectively, are at 50 CFR 17.32 and 50 CFR 17.22. The California Department of Fish and Game has similar provisions for incidental take of species listed under the California Endangered Species Act.

The Coachella Valley Association of Governments and its member jurisdictions (Riverside County and 9 municipalities) intend to apply for incidental take permits from the Fish and Wildlife Service and the California Department of Fish and Game. As part of the application process, the Association is developing the Multispecies Plan for an anticipated 31 target species and 24 habitat types currently within their jurisdiction. We anticipate that the permit applications for incidental take will include 20 unlisted species and the following 11 federally-listed species: Peninsular bighorn sheep (Ovis canadensis), desert tortoise (Gopherus agassizii), Southwest arroyo toad (Bufo microscaphus californicus), desert slender salamander (Batrachoseps aridus), Coachella Valley fringe-toed lizard (Uma inornata), desert pupfish (Cyprinodon macularius), Yuma clapper rail (Rallus longirostris yumanensis), least Bell's vireo (Vireo bellii pusillus), Southwestern willow flycatcher (Empidonax trailii extimus), Coachella Valley milk-vetch (Astragalus lentiginosus var. coachellae), and triple-ribbed milk-vetch (Astragalus tricarinatus).

The take prohibitions of the Federal Endangered Species Act do not apply to listed plants on private land unless their destruction on private land is in violation of State law. Nevertheless, we expect that the Coachella Valley Council of Governments and its member jurisdictions will consider plants in the Multispecies Plan and request permits for them to the extent that State law applies.

The 1,206,578-acre (1,885 square-mile) planning area for the Multispecies Plan is located in the central portion of Riverside County, California. It generally is defined by the ridgelines of the San Jacinto, Santa Rosa, and Little San Bernardino Mountains, extending to the Imperial and San Diego County lines from the Cabazon/San Gorgonio Pass area in the northwest to, and including, portions of the Salton Sea in the southeast.

Approximately 45 percent of the planning area consists of lands under the ownership and management of the Bureau of Land Management, while private lands total about 43 percent. The remaining 12 percent includes native American, State, and other public and quasi-public lands.

The Multispecies Plan is being designed to assure the conservation of adequate habitat and ecological processes for the protection and long-term viability of populations of the target species that are either listed as threatened or endangered, are proposed for listing, or are believed to have a high probability of being proposed for listing in the future if they are not protected by the Multispecies Plan. A critical consideration of the Plan is allowing key ecological processes, such as sand movement by wind and water, to support a shifting network of sand dunes essential to the well being of the target species. Plan developers are considering conservation of core habitat areas and linkages primarily through protection and management of existing public and quasi-public lands, and through acquisition of additional lands by cooperating Federal, State, and local governments from willing sellers throughout the planning area. The linkage areas connecting core habitat areas are intended to assure the long-term protection of movement or migratory corridors through which wildlife populations can mix and perpetuate a healthy gene pool.

Project Alternatives

A range and mix of public and private lands are under consideration and will be analyzed as project alternatives in the Impact Statement/Report, including a “No Project” alternative that assesses the efficacy of species and habitat protections, as well as associated impacts. Each alternative is summarized below.

No Project Alternative: Under this alternative, an area-wide Multispecies Plan would not be adopted. Hence Federal and State incidental take permits would be issued incrementally for individual projects. Assemblage of an effective preserve system would be unlikely. Over time, additional species would likely become listed, further complicating continued urban development. The land development permit process would continue to be lengthy, costly, and uncertain.

Existing Conservation Lands Alternative: Only existing reserves and other public and private conservation lands with habitat for target species would be included in this alternative. The type, amount and location of lands conserved under this alternative would be insufficient to obtain incidental take permit coverage for most, if not all, of the target species. This alternative would not streamline development permit processing.

Core Habitat, Ecological Processes and Linkages Alternative: Developed by the Scientific Advisory Committee for the Multispecies Plan, this alternative focuses on protecting core habitat areas of sufficient size and long-term viability for the protection of target species and natural communities. This alternative also includes protection of essential ecological processes and wildlife movement corridors.

Expanded Core Habitat, Ecological Processes and Linkages Alternative: Based upon the previous alternative, this enhanced conservation alternative would include additional habitat, ecological processes and wildlife corridors to further ensure functionality.

Avoid or Minimize Incidental Take Alternative: Under this alternative, most remaining viable habitat for target species, and associated ecological process and wildlife corridor lands in the planning area would be incorporated into the preserve system. Conservation would focus on all large habitat blocks within the composite range of target species and would allow development of all isolated habitat fragments. Little economic incentive for private land-owner participation would be available and immediate land acquisition would likely be required to address the resulting take of private lands.

Alternative Funding and Implementation Mechanisms

Estimates of the costs associated with the dedication, acquisition, and management of lands to be protected in perpetuity under the Multispecies Plan have not yet been completed. Substantial Federal and State assets are currently proposed for inclusion in the Plan, as are county, local, and private lands. Several alternative approaches are under consideration.

Tool Box Approach: This implementation mechanism may take the form of zoning overlays, General Plan policies, ordinances, development fees, and mitigation ratios. Tools that may be used include: (a) Conservation easements, (b) density transfer and cluster development, (c) conservation banks, (d) donation of lands for tax benefits, and (e) inclusion of land in a habitat transaction system with pre-assigned habitat values or credits.

Immediate Purchase of All At-Risk Lands: This alternative represents the optimum implementation mechanism but would require the immediate or short-term availability of substantial funding for purchase of land and conservation easements. Potential funding sources may include biological resource impact-fees assessed to future development, State and Federal grants, government loan guarantees, landfill tipping fees, and local sales tax.

Combined Public Funds/Mitigation Fee for Land Acquisition and Management: This approach includes the combined use of State and Federal grants, as well as the payment of a standardized impact mitigation fees for development of lands outside conservation areas. Revenues from existing or new tax streams, bond issues, landfill tipping fees, and other sources are also being explored. Continued private contributions are expected to be available for habitat acquisition.

In addition, the Forest Service, pursuant to the National Forest Management Act of 1976, and the Bureau of Land Management, pursuant to the Federal Land Policy and Management Act of 1976, have authority to acquire, excess, exchange and transfer Federal lands, and will be the agencies primarily responsible for furthering the Federal realty actions. The State of California also acquires lands for conservation purposes through the Wildlife Conservation Board, the Department of Parks and Recreation, and the Coachella Valley Mountains Conservancy.

Proposed Amendment of the California Desert Conservation Plan

The Bureau of Land Management is participating as a responsible agency in the planning process. To ensure that its land use decisions are in conformance with the Multispecies Plan, the Bureau proposes to amend the California Desert Conservation Area Plan in compliance with the National Environmental Policy Act, the Federal Land Policy Management Act of 1976, and the Code of Federal Regulations (40 CFR part 1500 and 43 CFR part 1610).

The Bureau will use the Impact Statement/Report prepared for the Multispecies Plan as the Environmental Impact Statement for its proposed amendment to the Desert Conservation Plan. The Bureau will prepare a Record of Decision separate from that of the Fish and Wildlife Service. The proposed plan amendment will address changes in Bureau land use classifications, identify public lands for exchange to augment the multi-species reserve system, and designate new Areas of Critical Environmental Concern. The proposed plan amendment will take into consideration biological, botanical, cultural, wilderness, mineral and other natural resources, as well as use of the public lands for recreation, mineral extraction, utility corridors and other uses. Nothing in this proposed plan amendment shall have the effect of terminating any validly issued rights-of-way or customary operation, maintenance, repair, and replacement activities in such rights-of-ways in accordance with Sections 509(a) and 701(a) of the Federal Land Policy Management Act of 1976.

Dated: June 21, 2000.
Elizabeth H. Stevens,
Deputy Manager, California/Nevada Operations Office, Region 1, Sacramento, California.

[FR Doc. 00-16383 Filed 6-27-00; 8:45 am]

BILLING CODE 4310-55-P